DEPARTMENT OF AGRICULTURE

Forest Service

Notice of Proposed New Fee Sites; Federal Lands Recreation Enhancement Act, (Title VIII, Pub. L. 108-447)

AGENCY: Boise National Forest, USDA Forest Service.

ACTION: Notice of proposed new fee sites.

SUMMARY: The Boise National Forest is planning to charge fees at two recreation sites. Fees are assessed based on the level of amenities and services provided, cost of operation and maintenance, market assessment, and public comment. The fees listed are currently proposed and will be determined upon further analysis and public comment. Funds from fees would be used for the continued operation and maintenance of these recreation sites.

The bunkhouse at the Dutch Creek Guard Station will be available for overnight rental. In consideration of the fees for similar Forest Service facilities and other location factors, the tentative cabin rental fee was set at $45 per night. Guard station rental cabins offer unique experiences and are a popular offering in National Forests. Two other cabins at this guard station have been available for public rental for a number of years and are rented approximately 50 nights during the snow-free season. This facility will expand rental opportunities in that it will make a great rental facility for larger groups or family reunions, as it will accommodate 8-10 easily, and more once remodeling plans to add more sleeping space in the basement are completed. Fees would continue to help protect and maintain this structure, as well as to finance the additional sleeping area construction work. The bunkhouse would be available once a final decision is made and they are listed with the National Recreation Reservation Service which is anticipated for June 2009 at the earliest.

Fees are also proposed at the Willow Creek campground on the Mountain Home Ranger District. This site has been improved with a new accessible toilet and picnic tables over the last 8 to 10 years and additional income is needed for its continued operation and maintenance. A fee study, financial analysis, and public involvement efforts have been ongoing since spring 2007 in an effort to evaluate and designate new fee sites across the Boise National Forest. Fees at campgrounds are generally $15 at sites that provide both drinking water and trash removal and $12 at sites that do not provide both of these amenities. A $5 day use fee is also proposed at some sites.

DATES: Fees would begin to be charged for rental of the Dutch Creek bunkhouse and the Willow Creek campground in May 2009.

ADDRESSES: Cecilia R. Seesholtz, Forest Supervisor, Boise National Forest, 1249 South Vinnell Way, Suite 200, Boise, Idaho 83709.

FOR FURTHER INFORMATION CONTACT: Jim Keller, Recreation Program Manager, 208-373-4142. Information about proposed fee changes and other proposed management actions developed in the Recreation Facility Analysis process can also be found on the Boise National Forest Web site: http://www.fs.fed.us/r4/boise/.

SUPPLEMENTARY INFORMATION: The Federal Recreation Lands Enhancement Act (Title VII, Pub. L. 108-447) directed the Secretary of Agriculture to publish a 6-month advance notice in the Federal Register whenever new recreation fee areas are established.

Once public involvement is complete, these new fee site proposals will be reviewed by a Recreation Resource Advisory Committee prior to a final decision and implementation.

Dated: September 23, 2008.
Frank V. Guzman,
Deputy Forest Supervisor.

[FR Doc. E8-22772 Filed 9-26-08; 8:45 am]

BILLING CODE 3410-11-M